DEPARTMENT OF ENERGY

Western Area Power Administration

Parker-Davis Project—Rate Order No. WAPA-123

AGENCY: Western Area Power Administration, DOE.

ACTION: Notice of order revising the Wholesale Firm Power Service Rate Schedule.

SUMMARY: This action is to revise the existing Parker-Davis Project (P-DP) Wholesale Firm Power Service Rate Schedule PD-F6 to include language pertinent to the Lower Colorado River Basin Development Fund surcharge, which the Western Area Power Administration (Western) is legislatively required to assess to P-DP power service customers in the states of Arizona, California, and Nevada beginning June 1, 2005. Title I, section 102(c) of the Hoover Power Plant Act of 1984 specifies that beginning June 1, 2005, and until the end of the repayment period for the Central Arizona Project, the Secretary of Energy shall provide for surplus revenues to the Lower Colorado River Basin Development Fund by including the equivalent of 4½ mills per kilowatthour in the rates set by the Secretary of Energy that are charged to Arizona purchasers and 2½ mills per kilowatthour in rates charged to California and Nevada purchasers of P-DP power.

FOR FURTHER INFORMATION CONTACT: Mr. Jack D. Murray, Rates Team Lead, Desert Southwest Region, Western Area Power Administration, P. O. Box 6457, Phoenix, AZ 85005-6457, telephone (602) 605-2442, e-mail jmurray@wapa.gov.

SUPPLEMENTARY INFORMATION: By Delegation Order No. 00-037.00 effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Federal Energy Regulatory Commission.

The existing P-DP firm rate methodology contained within Rate Order No. WAPA-75 was approved for 5 years. Subsequent rate orders extended the methodology until September 30, 2006. The revision of Rate Schedule PD-F6 for wholesale firm power service will not modify the approved rate methodology.

Western is required by statute to begin imposing the surcharge on June 1, 2005. The Hoover Power Plant Act of 1984, Title I, section 102(c) states:

* * * [F]or the Parker Davis project commencing June 1, 2005, and until the end of the repayment period for the Central Arizona project described in section 301(a) of this Act, the Secretary of Energy shall provide for surplus revenues by including the equivalent of 4½ mills per kilowatthour in the rates charged to purchasers in Arizona for application to the purposes specified in subsection (f) of this section and by including the equivalent of 2½ mills per kilowatthour in the rates charged to purchasers in California and Nevada for application to the purposes of subsection (g) of this section as amended and supplemented: Provided further, that after the repayment period for said Central Arizona project, the equivalent of 2½ mills per kilowatthour shall be included by the Secretary of Energy in the rates charged to purchasers in Arizona, California, and Nevada to provide revenues for application to the purposes of said subsection (g) of this section.

The rate schedule must be revised to include reference to the surcharge, which will be included on the customers' firm electric service bills for the June 2005 service month. Since the decision to revise Rate Schedule PD-F6 stems from a legislative requirement, Western has no discretion as to the amount or timing of the surcharge. Therefore, Western is not required to carry out a public process. Given the lack of discretion, this surcharge is being implemented under the Hoover Power Plant Act of 1984 and not Delegation Order No. 00-037.00.

Following review of Western's proposal within the DOE, I hereby approve Rate Order No. WAPA-123, which revises Rate Schedule PD-F6 for P-DP firm power to include the Lower Colorado River Development Surcharge beginning June 1, 2005.

Dated: May 13, 2005.
Clay Sell,
Deputy Secretary.

Department of Energy, Deputy Secretary

[Rate Order No. WAPA-123]

In the Matter of Western Area Power Administration Rate Schedule Revision for Parker-Davis Project Wholesale Firm Power Service Rate

Order Confirming and Approving Revision of the Parker-Davis Project Wholesale Firm Power Service Rate Schedule

This wholesale firm power service rate was established following section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project system involved.

By Delegation Order No. 00-037.00 effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission.

Background

The existing rate methodology, Rate Order No. WAPA-75, was approved for 5 years. By subsequent rate orders, the rate was extended through September 30, 2006.

Discussion

This action is to revise the existing Parker-Davis Project (P-DP) Wholesale Firm Power Service Rate Schedule PD-F6 to include language pertinent to the Lower Colorado River Basin Development Fund surcharge, which Western is legislatively required to assess to P-DP power customers in the states of Arizona, California, and Nevada beginning June 1, 2005. Title I, section 102(c) of the Hoover Power Plant Act of 1984 specifies that beginning June 1, 2005, and until the end of the repayment period for the Central Arizona Project, the Secretary of Energy shall provide for surplus revenues to the Lower Colorado River Basin Development Fund by including the equivalent of 4½ mills per kilowatthour in the rates set by the Secretary of Energy that are charged to Arizona purchasers and 2½ mills per kilowatthour in rates charged to California and Nevada purchasers of P-DP power.

On the Deputy Secretary of Energy's approval, Rate Order No. WAPA-123 will revise existing P-DP Wholesale Firm Power Service Rate Schedule PD-F6 to include the Lower Colorado River Development Surcharge beginning June 1, 2005.

Order

In view of the above and under the authority of the Hoover Power Plant Act of 1984, I hereby revise, effective June 1, 2005, the existing Rate Schedule PD-F6 for wholesale firm power service to include the Lower Colorado River Development Surcharge. The revised Rate Schedule PD-F6 shall remain in effect through September 30, 2006.

Dated: May 13, 2005.
Clay Sell,
Deputy Secretary.

[FR Doc. 05-10307 Filed 5-23-05; 8:45 am]

BILLING CODE 6450-01-P